Executive Order 13190 of January 15, 2001

President's Commission on Educational Resource Equity

By the authority vested in me as President by the Constitution and the laws of the United States of America, including the Federal Advisory Committee Act, as amended (5 U.S.C. App.), it is hereby ordered as follows:

Section 1. Policy. A quality education is essential to the success of every child in the 21st century and to the continued strength and prosperity of our Nation. Our Nation has embraced the goal of promoting high educational standards for all children and increasing accountability in education. Although we know it is crucial that all children have access to the educational resources and opportunity necessary to achieve high standards, long-standing gaps in access to educational resources exist, including disparities based on race and ethnicity. These gaps limit the ability of individuals, as well as our Nation, to reach their full potential. Therefore, it is the policy of this Administration that our Nation undertake appropriate steps to understand fully the current status of resource equity in education and to identify and implement strategies at the local, State, and national levels that will ensure that all students have a full and equal opportunity to succeed.

Sec. 2. Establishment. To carry out this policy, there is established the “President's Commission on Educational Resource Equity” (Commission). The Commission shall be composed of not more than 13 members appointed by the President from the public and private sectors. The members may include current and former Federal, State, and local government officials, corporate and foundation leaders, recognized education and civil rights experts, educational practitioners, and others with experience and expertise in educational resource equity. The President shall designate from among the Commission members such official or officials to be chairperson or chairpersons, as he shall deem appropriate.

Sec. 3. Duties and Commission Report. (a) The Commission shall collect and review information about the current status of gaps in the availability of educational resources, including the underlying causes and effects of such resource gaps. The Commission shall, as appropriate, invite experts and communities to provide information and guidance in furtherance of their duties.

(b) Not later than August 31, 2001, the Commission shall prepare and submit a report for the President and the Congress on the issue of resource equity in education. The report shall include, but not be limited to:

(i) An analysis of the status of resource equity in education with regard to such factors as finances, staff, facilities, instructional programs, and support services, taking into account, as appropriate, differences in costs and needs for different students and communities;

(ii) An analysis of how resource gaps in education affect the success of individuals and our Nation;

(iii) An examination of the effectiveness of targeted Federal resources toward disadvantaged students and low-income schools as compared with the provision of State and local resources toward disadvantaged students and low-income schools;

(iv) A summary of best practices with regard to overcoming gaps in the availability of educational resources; and

(v) Short- and long-term recommendations for educational policy makers, including local, State, and Federal officials, to achieve resource equity in education.

Sec. 4. Administration, Compensation, and Termination. (a) The Department of Education shall, to the extent permitted by law, provide administrative support and funding for the Commission.

(b) Members of the Commission shall serve without compensation, but while engaged in the work of the Commission, members appointed from among private citizens of the United States shall be allowed travel expenses, including per diem in lieu of subsistence, as authorized by law for persons serving intermittently in the Government service (5 U.S.C. 5701-5707) to the extent funds are available for such purposes.

(c) The functions of the President under the Federal Advisory Committee Act, as amended, except that of reporting to the Congress, that are applicable to the Commission, shall be performed by the Department of Education in accordance with the guidelines that have been issued by the Administrator of General Services.

(d) The chairperson (or chairpersons) may from time to time prescribe such rules, procedures, and policies relating to the activities of the Commission as are not inconsistent with law or with the provisions of this order.

(e) The Commission shall terminate 30 days after submitting its final report, unless extended by the President.

wj

THE WHITE HOUSE,

January 15, 2001.

[FR Doc. 01-1814

Filed 1-18-01; 8:45 am]

Billing code 3195-01-P